DEPARTMENT OF COMMERCE

National Oceanic and Atmospheric Administration

RIN 0648-XD842

North Pacific Fishery Management Council; Public Meetings

AGENCY: National Marine Fisheries Service (NMFS), National Oceanic and Atmospheric Administration (NOAA), Commerce.

ACTION: Notice of public meetings.

SUMMARY: The North Pacific Fishery Management Council (Council) and its advisory committees will hold public meetings.

DATES: The meetings will be held April 6-14, 2015. See SUPPLEMENTARY INFORMATION for specific dates and times.

ADDRESSES: The meetings will be held at the Anchorage Hilton, 500 West 3rd Avenue, Anchorage, AK.

Council address: North Pacific Fishery Management Council, 605 W. 4th Avenue, Suite 306, Anchorage, AK 99501-2252.

FOR FURTHER INFORMATION CONTACT: David Witherell, Council staff; telephone: (907) 271-2809.

SUPPLEMENTARY INFORMATION: The Council will begin its plenary session at 8 a.m. on Wednesday, April 8, continuing through Tuesday, April 14, 2015. The Scientific Statistical Committee (SSC) will begin at 8 a.m. on Monday, April 6 and continue through Wednesday April 8, 2015. The Council's Advisory Panel (AP) will begin at 8 a.m. on Tuesday, April 7, and continue through Saturday April 11, 2015. The Enforcement Committee will meet from 1 p.m. to 4 p.m. on Tuesday, April 7, 2015. The Halibut Recreational Quota Entity (RQE) Committee will meet from 1 p.m. to 5 p.m. on Tuesday, April 7, 2015. All meetings are open to the public, except executive sessions.

Council Plenary Session: The agenda for the Council's plenary session will include the following issues. The Council may take appropriate action on any of the issues identified.

1. Executive Director's Report (including status report on joint Council/International Pacific Halibut Commission (IPHC) meeting issues; legislative update)

NMFS Management Report (including report on National Standard (NS) Guidelines proposed rule and Council recusal discussion)

ADF&G Report

NOAA Enforcement Report

U.S. Coast Guard Report

USFWS Report

Protected Species Report

National Institute for Operational Safety and Health (NIOSH) Report

2. Cooperative Reports (American Fisheries Act (AFA), Amendment 80, Central Gulf of Alaska (CGOA) Rockfish, and Bering Sea Aleutian Island (BSAI) Crab),

3. GOA Salmon Bycatch Genetics,

4. Salmon Inter-cooperative Agreements (ICA)/Incentive Program Agreements (IPA) and GOA Salmon Excluder Exempted Fishing Permit (EFP) Reports,

5. Final Action on Bering Sea Salmon Bycatch,

6. Adopt Overfish Levels/Acceptable Biological Catch (OFL/ABC) for Scallop Stock Assessment Fishery Evaluation (SAFE) and plan team report,

7. Final Action on Gulf of Alaska (GOA) sablefish longline pots,

8. Discussion paper on Area 4A halibut retention in sablefish pots,

9. Initial Review on Observer coverage on small Catcher Processors (CPs),

10. Review methodology for BSAI Crab 10-year Review (SSC only),

11. Review National Standard 1 (NS1) Guidelines (SSC only),

12. Research Priorities: Review Classification, management priorities,

13. Ecosystem Committee report, Bering Sea Fishery Ecosystem Plan (BS FEP),

14. Staff Tasking.

The Advisory Panel will address most of the same agenda issues as the Council except B reports.

The SSC agenda will include the following issues:

1. Salmon Genetics

2. BSAI Crab 10-year review

3. Research Priorities

4. Scallop SAFE

5. Observer Coverage

6. Ecosystem Committee Report

7. NS1 Guidelines

In addition to providing ongoing scientific advice for fishery management decisions, the SSC functions as the Councils primary peer review panel for scientific information as described by the Magnuson-Stevens Act section 302(g)(1)(e), and the National Standard 2 guidelines (78 FR 43066). The peer review process is also deemed to satisfy the requirements of the Information Quality Act, including the OMB Peer Review guidelines.

The Agenda is subject to change, and the latest version will be posted at http://www.npfmc.org. Background documents, reports, and analyses for review are posted on the Council Web site in advance of the meeting. The names and organizational affiliations of SSC members are also posted on the Web site.

Although non-emergency issues not contained in this agenda may come before these groups for discussion, those issues may not be the subject of formal action during these meetings. Action will be restricted to those issues specifically listed in this notice and any issues arising after publication of this notice that require emergency action under section 305(c) of the Magnuson-Stevens Act, provided the public has been notified of the Council's intent to take final action to address the emergency.

Special Accommodations

These meetings are physically accessible to people with disabilities. Requests for sign language interpretation or other auxiliary aids should be directed to Gail Bendixen at (907) 271-2809 at least 7 working days prior to the meeting date.

Dated: March 16, 2015.
Tracey L. Thompson,
Acting Deputy Director, Office of Sustainable Fisheries, National Marine Fisheries Service.

[FR Doc. 2015-06308 Filed 3-18-15; 4:45 am]

BILLING CODE 3510-22-P